NUCLEAR REGULATORY COMMISSION

10 CFR Parts 2, 19, 20, 21, 25, 26, 30, 31, 32, 34, 35, 36, 37, 39, 40, 50, 51, 52, 54, 55, 60, 61, 62, 63, 70, 71, 72, 73, 74, 75, 76, 81, 95, 110, 140, 150, 160, 170, and 171

[NRC-2025-0479]

RIN 3150-AL39

The Sunset Rule

AGENCY: Nuclear Regulatory Commission.

ACTION: Proposed rule.

SUMMARY: The U.S. Nuclear Regulatory Commission (NRC) is proposing to amend its regulations to insert a conditional sunset date into certain regulations in response to Executive Order (E.O.) 14270, “Zero-Based Regulatory Budgeting to Unleash American Energy.”

DATES: Submit comments by January 2, 2026.

ADDRESSES: You may submit comments by any of the following methods; however, the NRC encourages electronic comment submission through the Federal rulemaking website (please choose only one of the ways listed):

• Federal Rulemaking Website: Electronically at https://www.regulations.gov. Follow the “Submit a comment” instructions. If you are reading this document on federalregister.gov, you may use the green “SUBMIT A PUBLIC COMMENT” button beneath this rulemaking's title to submit a comment to the regulations.gov docket. Address questions about NRC dockets to Helen Chang; telephone: 301-415-3228; email: Helen.Chang@nrc.gov. For technical questions contact the individual listed in the FOR FURTHER INFORMATION CONTACT section of this document.

• Email comments to: Rulemaking.Comments@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff. Mailed comments must be received by the close of the comment period.

• Hand deliver comments to: 11555 Rockville Pike, Rockville, Maryland 20852, between 7:30 a.m. and 4:15 p.m. eastern time, Federal workdays; telephone: 301-415-1677.

Do not include any personally identifiable information (such as name, address, or other contact information) or confidential business information that you do not want publicly disclosed. All comments are public records; they are publicly displayed exactly as received, and will not be deleted, modified, or redacted. Comments may be submitted anonymously.

Follow the search instructions on https://www.regulations.gov to view public comments.

You can read a plain language description of this proposed rule at https://www.regulations.gov/docket/NRC-2025-0479. For additional direction on obtaining information and submitting comments, see “Obtaining Information and Submitting Comments” in the SUPPLEMENTARY INFORMATION section of this document.

FOR FURTHER INFORMATION CONTACT: Maxwell C. Smith, U.S. Nuclear Regulatory Commission, Washington, DC 20555-0001; telephone: 301-415-1856, email: Maxwell.Smith@nrc.gov.

SUPPLEMENTARY INFORMATION:

Table of Contents

I. Obtaining Information and Submitting Comments

II. Rulemaking Procedure

III. Background

IV. Plain Writing

V. Paperwork Reduction Act

VI. Regulatory Planning and Review

I. Obtaining Information and Submitting Comments

A. Obtaining Information

Please refer to Docket ID NRC-2025-0479 when contacting the NRC about the availability of information for this action. You may obtain publicly available information related to this action by any of the following methods:

• Federal Rulemaking Website: Go to https://www.regulations.gov and search for Docket ID NRC-2025-0479.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

B. Submitting Comments

The NRC encourages timely electronic comment submission through the Federal Rulemaking website (https://www.regulations.gov). Please include Docket ID NRC-2025-0479 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Rulemaking Procedure

The NRC uses the “direct final rule procedure” for rulemaking when the NRC anticipates the rule is unlikely to attract significant adverse comment because the rule is non-controversial. As explained further, this rulemaking would add a “sunsetting clause” to certain regulations many of which are outdated, seldomly used, or duplicative with other regulations. Moreover, the NRC will provide the public with an opportunity to provide additional information on whether the sunsetting provision should be extended for these provisions at a future time as well as provide Tribal consultation opportunities in compliance with NRC's Tribal Policy Statement (82 FR 2402; January 9, 2017). Therefore, because the NRC does not anticipate significant public comments on this rulemaking and considers this action to be noncontroversial, the NRC is publishing this proposed rule concurrently with a direct final rule in the Rules and Regulations section of this issue of the Federal Register. The direct final rule will become effective on January 8, 2026. However, if the NRC receives significant adverse comments by January 2, 2026, then the NRC will publish a document that withdraws the direct final rule. If the direct final rule is withdrawn, the NRC will address the comments in a subsequent final rule. Absent significant modifications to the proposed revisions requiring republication, the NRC will not initiate a second comment period on this action in the event the direct final rule is withdrawn.

A significant adverse comment is a comment where the commenter explains why the rule would be inappropriate, including challenges to the rule's underlying premise or approach, or would be ineffective or unacceptable without a change.¹ A comment is adverse and significant if:

¹ Administrative Conference of the United States, Adoption of Recommendations (60 FR 43108-43111; August 18, 1995).

(1) The comment opposes the rule and provides a reason sufficient to require a substantive response in a notice-and-comment process. For example, a substantive response is required when:

(a) The comment causes the NRC to reevaluate (or reconsider) its position or conduct additional analysis;

(b) The comment raises an issue serious enough to warrant a substantive response to clarify or complete the record; or

(c) The comment raises a relevant issue that was not previously addressed or considered by the NRC.

(2) The comment proposes a change or an addition to the rule, and it is apparent that the rule would be ineffective or unacceptable without incorporation of the change or addition.

(3) The comment causes the NRC to make a change (other than editorial) to the rule.

For a more detailed discussion of the proposed rule changes and associated analyses, see the direct final rule published in the Rules and Regulations section of this issue of the Federal Register.

III. Background

Executive Order (E.O.) 14270, “Zero-Based Regulatory Budgeting to Unleash American Energy,” directs the NRC to issue a rule inserting a conditional sunset date into each of its regulations that are in effect as of the date of the E.O. (90 FR 15643; April 9, 2025) and were issued in whole or in part pursuant to the following statutes, as amended: the Atomic Energy Act of 1954, the Energy Reorganization Act of 1974, and the Nuclear Waste Policy Act of 1982. The conditional sunset date for covered regulations is to be one year after the effective date of the sunset rule. The E.O. directs the NRC to issue a sunset rule “to the extent consistent with applicable law” and provides that the E.O. does not apply to “regulatory permitting regimes authorized by statute.” For purposes of implementing this E.O., regulations that provide standards and requirements for NRC license and permit holders or applicants constitute the NRC's “regulatory permitting regime.” Thus, the scope of this rulemaking is limited to those regulations that do not fit into one or more of the following three categories: (1) regulations that could not be sunset “consistent with applicable law” because they are necessary to fulfill the NRC's statutory mandate to provide for the common defense and security and to protect public health and safety; (2) regulations that are part of the NRC's ”regulatory permitting regimes authorized by statute”; or (3) regulations that do not implement one of the three NRC-specific statutes identified in the E.O. (i.e., regulations that implement government-wide requirements such as the Freedom of Information Act of 1969). The vast majority of the NRC's regulations fit into one of these three categories. Nonetheless, the NRC identified several regulations that although they fall into one or more of these categories and are therefore outside the scope of the E.O., they are not being used or no longer serve their original purpose. As explained in section IV, “Discussion,” of the companion direct final rule, the NRC will add a sunsetting provision to those regulations. Importantly, the NRC will also continue to streamline its regulations through the rulemaking activities directed by E.O. 14300, “Ordering the Reform of the Nuclear Regulation Commission.”

As stated in E.O. 14270, the sunsetting provision will state a conditional sunset date that is one year after the effective date of this rule and provide that the NRC will offer the public an opportunity to comment on the costs and benefits of the regulations to be conditionally sunset before that effective date. The NRC will issue a separate notice describing the comment opportunity after this rule is effective. Following the sunset date, the NRC will consider sunset regulations to no longer be effective, will not seek to enforce sunset regulations, and will remove the regulation from the Code of Federal Regulations and make necessary conforming changes. However, following the opportunity for the public to comment on the sunset rule's costs and benefits, the NRC may extend the conditional sunsetting date if warranted and may do so as many times as appropriate.

IV. Plain Writing

The Plain Writing Act of 2010 (Pub. L. 111-274) requires Federal agencies to write documents in a clear, concise, well-organized manner. The NRC has written this document to be consistent with the Plain Writing Act as well as the Presidential Memorandum, “Plain Language in Government Writing,” published June 10, 1998 (63 FR 31885). The NRC requests comment on the proposed rule with respect to clarity and effectiveness of the language used.

V. Paperwork Reduction Act

This proposed rule does not contain a collection of information as defined in the Paperwork Reduction Act of 1995 (44 U.S.C. 3501 et seq.) and, therefore, is not subject to the requirements of the Paperwork Reduction Act of 1995.

VI. Regulatory Planning and Review

Executive Order (E.O.) 12866

The Office of Information and Regulatory Affairs (OIRA) has determined that this proposed rule is a significant regulatory action. Accordingly, NRC submitted this proposed rule to OIRA for review. The NRC is required to conduct an economic analysis in accordance with section 6(a)(3)(B) of E.O. 12866. However, NRC considers the costs incurred by this rule to be solely those related to the rulemaking process for this administrative activity.

Review Under E.O.s 14154, 14192, 14215, and 14300

The NRC has examined this proposed rule and has determined that it is consistent with the policies and directives outlined in E.O. 14154, “Unleashing American Energy,” E.O. 14192, “Unleashing Prosperity Through Deregulation,” E.O. 14215 “Ensuring Accountability for All Agencies,” and E.O. 14300, “Ordering the Reform of the Nuclear Regulatory Commission.” This proposed rule is considered an E.O. 14192 deregulatory action.

Dated: November 13, 2025.
For the Nuclear Regulatory Commission.
Michael King,
Acting Executive Director for Operations.

[FR Doc. 2025-21785 Filed 12-2-25; 8:45 am]

BILLING CODE 7590-01-P